DEPARTMENT OF COMMERCE

International Trade Administration

[A-580-867]

Large Power Transformers From the Republic of Korea: Correction to the Preliminary Results of Antidumping Duty Administrative Review; 2017-2018

AGENCY: Enforcement and Compliance, International Trade Administration, Department of Commerce.

FOR FURTHER INFORMATION CONTACT: Joshua DeMoss or John Drury, AD/CVD Operations, Office VI, Enforcement and Compliance, International Trade Administration, U.S. Department of Commerce, 1401 Constitution Avenue NW, Washington, DC 20230; telephone: (202) 482-3362 or (202) 482-0195, respectively.

SUPPLEMENTARY INFORMATION: On October 17, 2019, the Department of Commerce (Commerce) published the preliminary results of the 2017-2018 administrative review of the antidumping order for large power transformers from the Republic of Korea. Commerce inadvertently stated that a weight-average dumping margin exists for LSIS Co., Ltd (LSIS). LSIS timely notified Commerce that it had no exports, sales, or entries during the period of review (POR), August 1, 2017 to July 31, 2018.¹ Commerce issued a no-shipment inquiry to U.S. Customs and Border Protection (CBP), and CBP responded that it found no evidence of shipments from LSIS during the POR.² Specifically, CBP indicated that it found no shipments by LSIS during the POR.³ Thus, based on record evidence, we preliminary determine that LSIS had no shipments during the POR. Consistent with Commerce's practice, we find that it is not appropriate to rescind the review with respect to LSIS but, rather, to complete the review and issue appropriate instructions to CBP based on the final results of this review.⁴ This notice serves as a correction notice.

¹ See LSIS's Letter, “Large Power Transformers from the Republic of Korea: LSIS Co., Ltd.'s No Shipment Letter,” dated November 1, 2018.

² See Memorandum, “Large Power Transformers from the Republic of Korea; 2018-2018 Administrative Review: No Shipment Inquiry with Respect to LSIS,” dated October 16, 2019.

³ Id.

⁴ See, e.g., Certain Frozen Warmwater Shrimp From Thailand; Preliminary Results of Antidumping Duty Administrative Review, Partial Rescission of Review, Preliminary Determination of No Shipments; 2012-2013, 79 FR 15951, 15952 (March 24, 2014), unchanged in Certain Frozen Warmwater Shrimp From Thailand: Final Results of Antidumping Duty Administrative Review, Final Determination of No Shipments, and Partial Rescission of Review; 2012-2013, 79 FR 51306 (August 28, 2014); Magnesium Metal From the Russian Federation: Preliminary Results of Antidumping Duty Administrative Review, 75 FR 26922, 26923 (May 13, 2010), unchanged in Magnesium Metal From the Russian Federation: Final Results of Antidumping Duty Administrative Review, 75 FR 56989 (September 17, 2010).

Dated: November 21, 2019.
Christian Marsh,
Deputy Assistant Secretary for Enforcement and Compliance.

[FR Doc. 2019-25774 Filed 11-26-19; 8:45 a.m.]

BILLING CODE 3510-DS-P